DEPARTMENT OF HOUSING AND URBAN DEVELOPMENT

[Docket No. FR-5300-N-12]

Notice of Availability: Notice of Funding Availability (NOFA) for Fiscal Year (FY) 2009 Capacity Building for Community Development and Affordable Housing Grants

AGENCY: Office of the Assistant Secretary for Community Planning and Development, HUD.

ACTION: Notice.

SUMMARY: Through this notice, HUD announces the availability on its Web site of the application information, submission deadlines, funding criteria, and other requirements for the FY2009 Capacity Building for Community Development and Affordable Housing (Capacity Building) NOFA. The FY2009 Capacity Building NOFA makes $34 million in assistance to carry out the eligible activities related to affordable housing and community development for the section 4 capacity building program, of which at least $5 million shall be made available for rural capacity building activities. Applicants for assistance under the Capacity Building NOFA must address applicable requirements found in the Notice of HUD's Fiscal Year 2009 Notice of Funding Availability (NOFA) Policy Requirements and General section to the HUD's FY2009 NOFAs for Discretionary Programs published on December 29, 2008 (73 FR 79548), as amended on April 16, 2009 (74 FR 17685). Applicants should take particular note that they should follow the application submission instructions contained in this NOFA and not use those in the General section. The notice providing information regarding the application process, funding criteria and eligibility requirements is available on the HUD Web site at http://www.hud.gov/offices/adm/grants/fundsavail.cfm.

FOR FURTHER INFORMATION CONTACT: For information concerning the Capacity Building NOFA program, a Community Planning and Development Specialist, Office of Rural Housing and Economic Development, Office of Community Planning and Development, Department Housing and Urban Development, 451 Seventh Street, SW., Room 7137, Washington, DC 20410-7000; telephone (202) 708-2290 (this is not a toll-free number) or 1-877-787-2526 (this is a toll-free number). Persons with speech or hearing impairments may access this telephone number via TTY by calling the toll-free Federal Information Relay Service during working hours at 800-877-8339.

Dated: May 20, 2009.
Nelson R. Bregòn,
General Deputy Assistant Secretary for Community Planning and Development.

[FR Doc. E9-14632 Filed 6-19-09; 8:45 am]

BILLING CODE 4210-67-P